DEPARTMENT OF JUSTICE

Notice of Lodging of Consent Decree Under the Comprehensive Environmental Response, Compensation, and Liability Act (CERCLA)

Notice is hereby given that on January 18, 2001 a proposed Consent Decree ( “Decree” ) in United States and State of Colorado v. Burlington Northern Railroad Co., Civil Action No. 86-Z-369 was lodged with the United States District Court for the District of Colorado. The United States filed this action pursuant to sections 107(a)(2) of the Comprehensive Environmental Response, Compensation, and Liability Act (CERCLA), 42 U.S.C. 9607(a)(2), to recover past response costs incurred by the United States Environmental Protection Agency ( “EPA” ) in conducting response actions taken at or in connection with the release or threatened release of hazardous substances at or from the Broderick Wood Products Superfund Site located at 5800 Galapago Street in Adams County, Colorado. The Decree provides for the reimbursement to EPA of $6,800,000.00 plus accrued interest from June 1, 2000 from Burlington Northern Railroad Company.

The Department of Justice will receive for a period of thirty (30) days from the date of this publication comments relating to Decree. Comments should be addressed to the Assistant Attorney General, Environment and Natural Resources Division, P.O. Box 7611, U.S. Department of Justice, Washington, DC 20044-7611, and should refer to United States and State of Colorado v. Burlington Northern Railroad Co., D.J. Ref. 90-7-1-254.

The Decree may be examined at the offices of the U.S. EPA Region VIII, 999 18th Street, Suite 500 South Tower, Denver, Colorado and at the Office of the United States Attorney, District of Colorado 1961 Stout Street, 11th Floor, Denver, CO 80294. A copy of the proposed consent decree may also be obtained by mail from the Consent Decree Library, P.O. Box 7611, U.S. Department of Justice, Washington, DC 20044-7611 either with or without the multiple signature pages and attachments. In requesting a copy of the proposed consent decree, please enclose a check payable to the Consent Decree Library for $5.25 for a complete copy of the decree (25 cents per page reproduction cost).

Robert D. Brook,
Assistant Chief, Environmental Enforcement Section, Environment and Natural Resources Division.

[FR Doc. 01-3271 Filed 2-7-01; 8:45 am]

BILLING CODE 4410-15-M